LIBRARY OF CONGRESS

Copyright Office

37 CFR Part 251

[Docket No. 2011-5]

Copyright Arbitration Royalty Panel Rules and Procedures

AGENCY: Copyright Office, Library of Congress.

ACTION: Final rule; technical amendment.

SUMMARY: The Copyright Office is making an amendment to its regulations by removing Part 251 Copyright Arbitration Royalty Panel Rules of Procedure. In 2004, Congress replaced the Copyright Arbitration Royalty Panels with three Copyright Royalty Judges who operate under separate regulations.

DATES: Effective Date: July 13, 2011.

FOR FURTHER INFORMATION CONTACT: Tanya M. Sandros, Deputy General Counsel, Copyright GC/I&R, P.O. Box 70400, Southwest Station, Washington, DC 20024. Telephone: (202) 707-8380. Telefax: (202) 707-8366.

SUPPLEMENTARY INFORMATION: On November 30, 2004 the Copyright Royalty and Distribution Reform Act of 2004 was signed into law creating the Copyright Royalty Judges, Public Law 108-419, 118 Stat. 2341. The Act replaced the royalty panels with three Copyright Royalty Judges who promulgated separate regulations to govern their proceedings. See 37 CFR Ch. III. The Act also provided for the retention of the Copyright Arbitration Royalty Panels (“CARP”) for the purpose of concluding certain open proceedings. For this reason, the Office retained its regulations in order to complete the open proceedings and as a historical reference for those determinations that had been decided under the CARP system and had been appealed. These proceedings, however, have all been concluded and there is no longer a need for these regulations. Hence, the Office is amending its regulations to remove the section that governed the CARP proceedings.

List of Subjects in 37 CFR Part 251

Copyright Arbitration Royalty Panels (CARPs), Copyright General Provisions, Copyright Royalty Board, Copyright Royalty Judges.

Final Rule

PART 251—[REMOVED]

Accordingly, under the authority at 17 U.S.C. 702, 37 CFR Chapter II, Subchapter B is amended by removing part 251.

Dated: June 28, 2011.
Maria A. Pallante,
Register of Copyrights.
Approved by:
James H. Billington,
The Librarian of Congress.

[FR Doc. 2011-17657 Filed 7-12-11; 8:45 am]

BILLING CODE 1410-30-P